DEPARTMENT OF HOUSING AND URBAN DEVELOPMENT

[Docket No. FR-4800-FA-9C]

Announcement of Funding Awards for Fiscal Year 2003; Hispanic-Serving Institutions Assisting Communities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2003 Hispanic-Serving Institutions Assisting Communities Program (HSIAC). The purpose of this document is to announce the names, addresses and the amount awarded to the winners to be used to help Hispanic-Serving Institutions of Higher Education to expand their role and effectiveness in addressing community development needs in their localities, consistent with the purposes of HUD's Community Development Block Grant program (CDBG).

FOR FURTHER INFORMATION CONTACT: Susan Brunson, Office of University Partnerships, U.S. Department of Housing and Urban Development, Room 8106, 451 Seventh Street, SW., Washington, DC 20410, telephone (202) 708-3061, ext. 3852. To provide service for persons who are hearing or speech impaired, this number may be reached via TTY by Dialing the Federal Information Relay Service on 800-877-8339 or 202-708-1455. (Telephone number, other than “800” TTY numbers are not toll free).

SUPPLEMENTARY INFORMATION: The Hispanic-Serving Institutions Assisting Communities Program was approved by Congress under section 107 of the Community Development Block Grant appropriations for the Fiscal Year 2003, and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HSIAC program provides funds for a wide range of CDBG-eligible activities including housing rehabilitation and financing, property demolition or acquisition, public facilities, economic development, business entrepreneurship, and fair housing programs.

The Catalog Federal Domestic Assistance number for this program is 14.514.

On April 25, 2003, (68 FR 21116), HUD published a Notice of Funding Availability (NOFA) announcing the availability of $7.04 million in Fiscal Year 2003 for the HSIAC Program. The Department reviewed, evaluated, and scored the applications received based on the criteria in the NOFA. As a result, HUD has funded the applications below, in accordance with section 102(a)(4)(C) of the Department of Housing and Urban Development Reform Act of 1989 (103 Stat. 1987, 42 U.S.C. 3545), the Department is publishing details concerning the recipients of funding awards, as set forth below.

List of Awardees for Grant Assistance Under the FY 2003 Hispanic-Serving Institutions Assisting Communities Program Funding Competition, by Institution, Address and Grant Amount

New York/New Jersey

1. Lehman College, Ms. Eleanor Lundeen, Lehman College, 250 Bedford Park Blvd., Bronx, NY 10468. Grant: $600,000.

Southeast/Caribbean

2. Universidad Metropolitana, Dr. Zaida Vega Lugo, Universidad Metropolitana, P.O. Box 21150, San Juan, PR 00928. Grant: $554,884.

Southwest

3. San Antonio College, Mary Helen Vera, Ph.D., Women's Center, 1300 San Pedro Avenue, San Antonio, TX 78212. Grant: $594,763.

4. The University of Texas Pan American, Mr. Pedro Salazar, The University of Texas Pan American, 1201 W University Drive, Edinburg, TX 78539. Grant: $600,000.

5. St. Phillips College, Federico Zaragoza, Ph.D., St. Phillips College, 1801 Martin Luther King, San Antonio, TX 78203. Grant: $600,000.

6. San Jacinto College, Mr. James Matlock III, San Jacinto College, 4624 Fairmount Parkway, Pasadena, TX 77504. Grant: $597,986.

7. Midland College, Mr. Alfredo Chaparro, Midland College, 3600 North Garfield, Midland, TX 79705. Grant: $600,000.

Pacific/Hawaii

8. Long Beach Community College District, Ms. Yvonne Gonzalez Duncan, Long Beach Community College, 4901 E. Carson Street, Long Beach, CA 90808. Grant: $600,000.

9. San Diego State University, Ms. Suzanna Fuentes-Ferreiro, San Diego State University, 720 Heber Avenue, Calexico, CA 92231. Grant: $600,000.

10. Bakersfield College, Mr. Ken Meier, Bakersfield College, 1801 Panorama Drive, Bakersfield, CA 93305. Grant: $499,975.

11. California State University-Bakersfield, Dr. Janice Chavez, California State University-Bakersfield, 9001 Stockdale Highway, Bakersfield, CA 93311. Grant: $600,000.

Northwest/Alaska

12. Heritage College, Ms. Mary Alice Muellerleile, Heritage College, 3240 Fort Road, Toppenish, WA 98948. Grant: $598,380.

Dated: October 17, 2003.
Darlene F. Williams,
General Deputy Assistant Secretary for Policy Development and Research.

[FR Doc. 03-27529 Filed 10-31-03; 8:45 am]

BILLING CODE 4210-62-P